NATIONAL CREDIT UNION ADMINISTRATION

Sunshine Act Meeting

Time and Date: 10:00 a.m., Thursday, October 19, 2000.

Place: Board Room, 7th Floor, Room 7047, 1775 Duke Street, Alexandria, VA 22314-3428.

Status: Open.

Matters To Be Considered

1. Final IRPS 00-1, Amendments to NCUA's Chartering and Field of Membership Policies.

2. Requests from Three (3) Federal Credit Unions to Convert to Community Charters.

3. Request from a Federal Credit Union to Expand its Community Charter.

4. Delegations of Authority Related to the Prompt Corrective Action Regulations.

5. Proposed Interpretive Ruling and Policy Statement (IRPS) with Request for Comments Regarding Central Liquidity Facility (CLF).

6. Proposed Rule: Sections 706.6 through 706.17, NCUA's Rules and Regulations, Fair Credit Reporting.

7. Final Rule: Amendment to Part 792, Subparts C and E, NCUA's Rules and Regulations, Privacy Act.

8. NCUA's Overhead Transfer Rate for 2001.

Recess: 11:15 a.m.

Time and Date: 11:30 a.m., Thursday, October 19, 2000.

Place: Board Room, 7th Floor, Room 7047, 1775 Duke Street, Alexandria, VA 22314-3428.

Status: Closed.

Matters To Be Considered

1. Budget Reprogramming. Closed pursuant to exemptions (4) and (6).

2. Two (2) Personnel Matters. Closed pursuant to exemptions (2) and (6).

FOR FURTHER INFORMATION CONTACT: Becky Baker, Secretary of the Board, Telephone 703-518-6304.

Becky Baker,
Secretary of the Board

[FR Doc. 00-26717 Filed 10-13-00; 11:06 am]

BILLING CODE 7535-01-M